ELECTION ASSISTANCE COMMISSION

Sunshine Act Meetings

AGENCY: U.S. Election Assistance Commission.

ACTION: Sunshine Act notice; notice of public hearing.

SUMMARY: Public Hearing: Election Security.

DATES: Wednesday, October 14, 2020, 1:30 p.m. Eastern.

ADDRESSES:

Virtual

The hearing is open to the public and will be livestreamed on Microsoft Teams Live Events with the link available at eac.gov.

FOR FURTHER INFORMATION CONTACT: Kristen Muthig, Telephone: (202) 897-9285, Email: kmuthig@eac.gov.

SUPPLEMENTARY INFORMATION: Purpose: In accordance with the Government in the Sunshine Act (Sunshine Act), Public Law 94-409, as amended (5 U.S.C. 552b), the U.S. Election Assistance Commission (EAC) will conduct a virtual hearing on election security and preparedness for November 2020 elections.

Agenda: The U.S. Election Assistance Commission (EAC) will hold a hearing on strengthening election security and preparedness for the November 2020 elections. Speakers from federal agencies will offer remarks on issues surrounding election security, what their agencies have done to combat foreign interference, and how officials are responding to the security challenges COVID-19 presents to elections. Speakers will also answer questions from the EAC Commissioners.

The full agenda will be posted in advance on the EAC website: https://www.eac.gov.

STATUS: This hearing will be open to the public.

Amanda Joiner,
Associate Counsel, U.S. Election Assistance Commission.

[FR Doc. 2020-22229 Filed 10-5-20; 11:15 am]

BILLING CODE 6820-KF-P